DEPARTMENT OF COMMERCE

International Trade Administration

[C-570-955]

Certain Magnesia Carbon Bricks From the People's Republic of China: Rescission of Countervailing Duty Administrative Review; 2017

AGENCY: Enforcement and Compliance, International Trade Administration, Department of Commerce.

SUMMARY: The Department of Commerce (Commerce) is rescinding the administrative review of the countervailing duty (CVD) order on certain magnesia carbon bricks (magnesia carbon bricks) from the People's Republic of China (China) for the period of review January 1, 2017, through December 31, 2017 (POR).

DATES: Applicable October 17, 2019.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On September 11, 2018, Commerce published in the Federal Register a notice of opportunity to request an administrative of the CVD order on magnesia carbon bricks from China for the POR.¹ On October 1, 2018, the Magnesia Carbon Bricks Fair Trade Committee (MC Bricks Committee) timely submitted a request to review the Companies Subject to Review, in accordance with 19 CFR 351.213(b).² No other party submitted a request for an administrative review of magnesia carbon bricks from China for the POR. On November 15, 2018, Commerce published in the Federal Register a notice of initiation of this administrative review.³ In the Initiation Notice, we stated that in the event we limited the number of respondents for individual examination, we intended to select respondents based on U.S. Customs and Border Protection (CBP) data for U.S. imports of magnesia carbon bricks from China during the POR.⁴ On December 4, 2018, we notified interested parties that CBP's database, which is comprised of actual U.S. entries of subject merchandise, indicated that there were no entries of magnesia carbon bricks from China that are subject to CVD duties with respect to the Companies Subject to Review during the POR.⁵ Commerce solicited comments from interested parties on the CBP Entry Data.⁶ On December 11, 2018 the MC Bricks Committee filed timely comments on the CBP Entry Data stating that Commerce should obtain CBP entry information for “Type-1” entries that were imported or exported by Fedmet and place that information on the record as Commerce did in the most-recently completed administrative review of magnesia carbon bricks from China.⁷ On December 13, 2018, Fedmet and the Fengchi Companies each submitted timely certifications of no shipments, and they both requested that Commerce rescind the administrative review of the respective entities.⁸ In its certification of no shipments, Fedmet stated that it is a U.S. importer and distributor of non-subject merchandise from China and an importer of various types of refractory bricks from non-subject sources.⁹ Fedmet also requested that Commerce terminate this administrative review with respect to Fedmet, arguing that the MC Bricks Committee had no grounds to request an administrative review of Fedmet, and that Commerce has no lawful basis to conduct this review with respect to Fedmet.¹⁰

¹ See Antidumping or Countervailing Duty Order, Finding, or Suspended Investigation; Opportunity to Request Administrative Review, 83 FR 45888 (September 11, 2018).

² See Letter from the MC Bricks Committee, “Certain Magnesia Carbon Bricks from the People's Republic of China: Request for Administrative Review,” dated October 1, 2018. The MC Bricks Committee is an ad hoc association comprised of three U.S. producers of magnesia carbon bricks: Resco Products, Inc.; Magnesita Refractories Company; and HarbisonWalker International, Inc. The Companies Subject to Review are: Fedmet Resources Corporation (Fedmet); Fengchi Imp. and Exp. Co., Ltd., Fengchi Imp. and Exp. Co., Ltd. of Haicheng City, Fengchi Mining Co., Ltd. of Haicheng City, and Fengchi Refractories Co., of Haicheng City (collectively, the Fengchi Companies); Liaoning Zhongmei High Temperature Material Co., Ltd.; Liaoning Zhongmei Holding Co., Ltd.; RHI Refractories Liaoning Co., Ltd.; Shenglong Refractories Co., Ltd.; Yingkou Heping Samwha Minerals, Co., Ltd.; and Yingkou Heping Sanhua Materials Co., Ltd.

³ See Initiation of Antidumping and Countervailing Duty Administrative Reviews, 83 FR 57411 (November 15, 2018) (Initiation Notice).

⁴ Id. at the section, “Respondent Selection.”

⁵ See Memorandum, “Administrative Review of the Countervailing Duty Order on Certain Magnesia Carbon Bricks from the People's Republic of China; 2017: Release of U.S. Customs and Border Protection (CBP) Data for Respondent Selection,” dated December 4, 2018 (CBP Entry Data).

⁶ Id.

⁷ See Letter from the MC Bricks Committee, “Certain Magnesia Carbon Bricks from the People's Republic of China: Comments on CBP Data Query,” dated December 11, 2018.

⁸ See Letter from Fedmet, “Magnesia Carbon Bricks from the People's Republic of China, Case No. C-570-955: No Shipments Certification,” dated December 13, 2018 (Fedmet's Certification of No Shipments); see also Letter from the Fengchi Companies, “Magnesia Carbon Bricks from the People's Republic of China, Case No. C-570-955: No Shipments Certification,” dated December 13, 2018.

⁹ See Fedmet's Certification of No Shipments.

¹⁰ Id.

On June 28, 2019, Commerce requested that CBP confirm whether any shipments of magnesia carbon bricks from China entered the United States during the POR with respect to the Companies Subject to Review.¹¹ On this same day, CBP responded to Commerce's inquiry and confirmed that there were no shipments of magnesia carbon bricks from China during the POR with respect to the Companies Subject to Review.¹² On September 12, 2019, Commerce issued a memorandum stating that it intended to rescind this administrative review based on the lack of suspended entries with respect to the Companies Subject to Review, and invited comments from interested parties.¹³ No interested party commented on Commerce's intent to rescind this administrative review.

¹¹ See CBP message no. 9179316, dated June 28, 2019.

¹² See Memorandum, “Certain magnesia carbon bricks from the People's Republic of China (China) (C-570-955),” dated July 2, 2019.

¹³ See Memorandum, “Administrative Review of the Countervailing Duty Order on Certain Magnesia Carbon Bricks from the People's Republic of China: Intent to Rescind the 2017 Administrative Review,” dated September 12, 2019 (Intent to Rescind Memorandum).

Rescission of Review

It is Commerce's practice to rescind an administrative review of a CVD order, pursuant to 19 CFR 351.213(d)(3), when there are no reviewable entries of subject merchandise during the POR for which liquidation is suspended.¹⁴ Normally, upon completion of an administrative review, the suspended entries are liquidated at the assessment rate calculated for the review period.¹⁵ Therefore, for an administrative review to be conducted, there must be a reviewable, suspended entry for which Commerce can instruct CBP to liquidate at the newly calculated assessment rate.¹⁶ Based on our examination of the record, we continue to find that there is no evidence of reviewable entries, shipments, or U.S. sales of subject merchandise during the POR.¹⁷ Accordingly, in the absence of suspended entries of subject merchandise during the POR for this administrative review, Commerce is rescinding this administrative review of the CVD order on magnesia carbon bricks from China, pursuant to 19 CFR 351.213(d)(3). Commerce intends to issue appropriate assessment instructions to CBP 15 days after the date of publication of this notice in the Federal Register.

¹⁴ See, e.g., Circular Welded Carbon Quality Steel Pipe from the People's Republic of China: Rescission of Countervailing Duty Administrative Review; 2017, 84 FR 14650 (April 11, 2019); Lightweight Thermal Paper from the People's Republic of China: Notice of Rescission of Countervailing Duty Administrative Review; 2015, 82 FR 14349 (March 20, 2017); and Lightweight Thermal Paper from the People's Republic of China: Notice of Rescission of Countervailing Duty Administrative Review, 81 FR 50683 (August 2, 2016).

¹⁵ See 19 CFR 351.212(b)(2).

¹⁶ See, e.g., Certain Magnesia Carbon Bricks from the People's Republic of China: Rescission of Countervailing Duty Administrative Review; 2016, 84 FR 22437 (May 17, 2019).

¹⁷ See Intent to Rescind Memorandum.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing this notice in accordance with sections 751(a)(1) and 777(1) of the Act, and 19 CFR 351.213(d)(4).

Dated: October 8, 2019.
James Maeder,
Deputy Assistant Secretary for Antidumping and Countervailing Duty Operations.

[FR Doc. 2019-22672 Filed 10-16-19; 8:45 am]

BILLING CODE 3510-DS-P